DEPARTMENT OF JUSTICE

Notice of Lodging of Consent Decree Pursuant to the Clean Air Act, the Clean Water Act, and the Resource Conservation and Recovery Act

In accordance with Departmental policy, 28 U.S.C. 50.7, notice is hereby given that a proposed Consent Decree in United States of America v. Diamond Shamrock Refining Co., L.P. Civil Action No. H-01-2494 was lodged on July 25, 2001, with the United States District Court for the Southern District of Texas.

The Consent Decree settles an action brought under Clean Air Act (“CAA”) Section 111, 42 U.S.C. 7411, Clean Water Act (“CWA”) section 301, 33 U.S.C. 1311, and RCRA sections 3002 and 3005, 42 U.S.C. 6922 and 6925, for violations alleged at petroleum refineries in Three Rivers, Texas (“the Three Rivers Refinery”) and Sunray, Texas (“the McKee Refinery”) owned and operated by Diamond Shamrock Refining Co., L.P. (“DSRC”). The proposed Consent Decree requires, among other items, that DSRC obtain required permit coverage under the CWA for the land application site associated with the Three Rivers Refinery (“Irrigation Site”) and that DSRC modify the Irrigation Site to prevent the discharge of treated process wastewater to waters of the United States. DSRC will also replace existing pumps on volatile organic compound (“VOC”) service with leakless pumps as a supplemental environmental project (“SEP”) and pay a civil penalty of $1.2 million.

The Department of Justice will receive, for a period of thirty (30) days from the date of this publication, comments relating to the proposed Consent Decree. Comments should be addressed to the Assistant Attorney General for the Environment and Natural Resources Division, Department of Justice, Washington, D.C. 20530, and should refer to United States of America v. Diamond Shamrock Refining Co., L.P. (S.D. Tx.). DOJ Ref. #90-7-1-926.

The proposed Consent Decree may be examined at the office of the United States Attorney, Southern District of Texas, 910 Travis, Suite 1500, Houston, TX 77002 and the office of the U.S. Environmental Protection Agency, Region VI, 1445 Ross Avenue, Dallas, Texas 75202. A copy of the proposed Consent Decree may be obtained by mail from the Consent Decree Library, P.O. Box 7611, Washington, DC 20044-7611. When requesting a copy please refer to United States of America v. Diamond Shamrock Refining Co., L.P. (S.D. Tx.), DOJ Ref. #90-7-1-926 and enclose a check in the amount of $11.25 (25 cents per page reproduction costs), payable to the “Consent Decree Library.”

Thomas A. Mariani, Jr.,
Assistant Chief, Environmental Enforcement Section, Environment and Natural Resources Division.

[FR Doc. 01-19942 Filed 8-8-01; 8:45 am]

BILLING CODE 4410-15-M